DEPARTMENT OF HOMELAND SECURITY

Coast Guard

[Docket No. USCG-2013-0240]

Draft Revisions to the Marine Safety Manual, Volume III, Chapters 20-26

AGENCY: Coast Guard, DHS.

ACTION: Supplemental notice of availability with request for comments.

SUMMARY: This is a supplemental notice to the August 9, 2013 request for comments on the draft changes to the Marine Safety Manual (MSM), Volume III, Marine Industry Personnel. The draft revision will be available in the docket for this notice. The primary reasons for this supplemental notice are to announce the incorporation in Volume III of the 2010 amendments to the STCW Convention, and to address the public comments received from the initial solicitation as well as input from the Merchant Marine Personnel Advisory Committee. Additionally, chapters 20 through 26 of Volume III have been reformatted, and are now presented as Volume III Part B, chapters 1 through 7. In the draft revision, these proposed revisions since the initial request for comments, including other changes necessary to reorganize and clarify Volume III, are highlighted in yellow. The Coast Guard will consider comments on this draft revision before issuing a final version of this manual.

DATES: Documents discussed in this notice should be available in the online docket within three business days of today's publication. Comments and related material must either be submitted to the online docket via http://www.regulations.gov or be received by the Coast Guard on or before May 16, 2014.

ADDRESSES: To view the documents mentioned in this notice, go to http://www.regulations.gov and use “USCG-2013-0240” as your search term. Locate this notice in the search results, and use the filters on the left side of the page to locate specific documents by type. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

FOR FURTHER INFORMATION CONTACT: If you have questions on this notice, call or email Lieutenant Corydon Heard, Office of Commercial Vessel Compliance, U.S. Coast Guard; telephone 202-372-1208, email Corydon.F.Heard@uscg.mil. If you have questions on viewing material in the docket, call Docket Operations at 202-366-9826.

SUPPLEMENTARY INFORMATION:

Background and Purpose

Volume III of the Marine Safety Manual (MSM) provides information and interpretations on international conventions and U.S. statutory and regulatory issues relating to marine industry personnel. The last revisions to Volume III of the MSM were released on May 27, 1999. This supplemental notice announces updates to portions of legacy chapters 20 through 26.

On August 9, 2013, the Coast Guard published a notice in the Federal Register announcing the availability of a draft update to MSM Volume III and requested public comments on the draft (See 78 FR 48696). Specifically, the substantive changes announced in that notice included: (1) updated provisions for vessel manning, including guidance for the issuing of safe manning documents; (2) clarified roles, responsibilities, and facilitation of communications with the appropriate offices at Coast Guard Headquarters in alignment with current Coast Guard organization; and (3) revised discussion on the impact of multiple international standards, including the Officer's Competency Certificates Convention (OCCC) 1936, the International Convention for Safety of Life at Sea (SOLAS), the Global Maritime Distress and Safety System (GMDSS), and the Principles of Minimum Safe Manning (IMO Resolution A.1047(27)). Additionally, the draft clarified the applicability of tonnage measurement systems to U.S. flag vessels, and included changes resulting from the consolidation of merchant mariner qualification credentials, including the removal of references to the operated uninspected towing vessel endorsement.

We received fifteen public comment responses to the August 9, 2013 Federal Register notice. These comment responses contained a total of approximately 130 specific recommendations, suggestions, and other comments. We have created a document that provides a summary of each comment and the corresponding Coast Guard response, as well as internal Coast Guard comments and changes made to incorporate the STCW Final Rule. A copy of this public comment matrix is available for viewing in the public docket for this notice. For more detailed information, please consult the actual public comment letters in the docket. You may access the docket going to http://www.regulations.gov, using “USCG-2013-0240” as your search term, and following the instructions in the ADDRESSES section above.

The basic ideas and principles encompassed in the initial draft change remain. Some commenters raised concerns and objections over several proposed revisions to the MSM. In response to these comments, the Coast Guard has made some additional revisions. The Coast Guard notes, however, that the MSM (and any revisions made to the MSM) reflect current law and regulation and are intended to provide guidance and information to marine industry personnel. A brief discussion of the most important changes is included below. For a more in-depth discussion of the individual comments submitted, please visit the docket for this notice to view submitted comments and the public comment matrix.

(1) We received several comments on what was generally perceived to be an increase in vessel manning, beyond that required by law or regulation. This was not the intention of this change and these sections have been clarified.

(2) Several commenters expressed concern over how an owner's decision to increase manning may be perceived by the Coast Guard and that the guidance provided did not adequately address when manning would warrant an additional review and modifications. To address this concern, these sections have been revised to focus on watchkeeping provisions, rest requirements, and the performance of maintenance.

(3) Other commenters suggested that certain tables and scales be deleted or revised in their entirety and that the tables for uninspected towing vessels be replaced with those recommended by Towing Vessel Safety Advisory Committee (TSAC). We disagree. Although certain tables have been amended in response to various comments, they reflect the current laws and regulations pertaining to the manning levels for various vessel types, including uninspected towing vessels. The Coast Guard has engaged with TSAC to develop sample manning scales, however this tasking and recommendation pertains to inspected towing vessels, in preparation for future regulation. Once finalized, the TSAC recommendation will be taken under consideration for future inclusion in MSM Volume III.

(4) A number of commenters urged the Coast Guard to consider, and include in this revision, the final agency action on pending appeals regarding when mariner credentials are required for persons in addition to the crew. We disagree. Decisions on appeal impacting requirements for certain persons in addition to the crew are being evaluated and will be addressed in the future.

(5) Multiple commenters noted that although the Coast Guard usually discusses manning changes with management, specific language should be added to that end. We agree and revisions have been incorporated to specifically mention the master as well as to include provisions for manning modifications to be discussed with the owner/operator.

Additional substantive revisions include: (1) the consolidation of existing Coast Guard Policy Letters into the Manual; (2) context on the allowable employment and conditions of a two-watch system for specific vessel types; and (3) policy updates reflecting the implementation of the 2010 amendments to the International Convention on Standards of Training, Certification, and Watchkeeping for Seafarers (STCW). These revisions are presented in a new format, where MSM Volume III has been split into two distinct parts; Part A, Mariner Credentialing (Chapters 1-19) and Part B, Vessel Manning (legacy Chapters 20-26 are now Chapters 1-7).

It should be noted that the proposed revisions in this draft change are not intended to preempt or take the place of separate policy initiatives regarding specific decisions on appeal or future regulations. Future changes to the MSM may be released if the Coast Guard promulgates new regulations or appeal decisions, which may affect the guidance and information contained within the MSM.

This notice is issued under authority of 5 U.S.C. 552(a).

Dated: March 10, 2014.
Jonathan C. Burton,
Captain, U.S. Coast Guard, Director, Inspections and Compliance.

[FR Doc. 2014-05725 Filed 3-14-14; 8:45 am]

BILLING CODE 9110-04-P